INTERNATIONAL TRADE COMMISSION

[Investigations Nos. 731-TA-406 & 408 (Review)]

Electrolytic Manganese Dioxide From Greece and Japan

Determinations

On the basis of the record ¹ developed in the subject five-year reviews, the United States International Trade Commission determines, pursuant to section 751(c) of the Tariff Act of 1930 (19 U.S.C. § 1675(c)) (the Act), that revocation of the antidumping duty orders on electrolytic manganese dioxide from Greece and Japan would not be likely to lead to continuation or recurrence of material injury to an industry in the United States within a reasonably foreseeable time. ²

¹ The record is defined in sec. 207.2(f) of the Commission's Rules of Practice and Procedure (19 CFR § 207.2(f)).

² Chairman Lynn M. Bragg dissenting.

Background

The Commission instituted these reviews on May 3, 1999 (64 FR 23675) and determined on August 25, 1999 that it would conduct full reviews (64 FR 46407, August 25, 1999). Notice of the scheduling of the Commission's reviews and of a public hearing to be held in connection therewith was given by posting copies of the notice in the Office of the Secretary, U.S. International Trade Commission, Washington, DC, and by publishing the notice in the Federal Register on October 6, 1999 (64 FR 54353). The hearing was held in Washington, DC, on March 2, 2000, and all persons who requested the opportunity were permitted to appear in person or by counsel.

The Commission transmitted its determinations in these reviews to the Secretary of Commerce on May 9, 2000. The views of the Commission are contained in USITC Publication 3296 (May 2000), entitled Electrolytic Manganese Dioxide from Greece and Japan: Investigations Nos. 731-TA 406 and 408 (Review).

Issued: May 12, 2000.
By order of the Commission.
Donna R. Koehnke,
Secretary.

[FR Doc. 00-12421 Filed 5-16-00; 8:45 am]

BILLING CODE 7020-02-P